NATIONAL FOUNDATION FOR THE ARTS AND THE HUMANITIES

National Council on the Arts 175th Meeting

AGENCY: National Endowment for the Arts, National Foundation on the Arts and Humanities.

ACTION: Notice—Meeting.

Pursuant to section 10(a)(2) of the Federal Advisory Committee Act (Pub. L. 92-463), as amended, notice is hereby given that a meeting of the National Council on the Arts will be held on March 30, 2012, in Room M-09 at the Nancy Hanks Center, 1100 Pennsylvania Avenue NW., Washington, DC 20506.

This meeting, from 9 a.m. to 11:30 a.m. on Friday, March 30th in Room M-09 (ending time is approximate), will be open to the public on a space available basis. The meeting will begin with opening remarks and voting on recommendations for funding and rejection and guidelines, followed by updates by the Chairman. From 10 a.m. to 11:30 a.m. there will be presentations on Operation Homecoming and the healing arts programs at Walter Reed National Military Medical Center, Arts and Achievement in At-Risk Youth: Findings From Four Longitudinal Studies, and an overview of NEA Arts and podcasts. The meeting will adjourn following concluding remarks and announcement of voting results.

This meeting will be webcast. The webcast can be accessed by going to Art Works blog at www.arts.gov/artworks.

If, in the course of the open session discussion, it becomes necessary for the Council to discuss non-public commercial or financial information of intrinsic value, the Council will go into closed session pursuant to subsection (c)(4) of the Government in the Sunshine Act, 5 U.S.C. 552b, and in accordance with the determination of the Chairman of November 10, 2009. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue NW., Washington, DC 20506, 202/682-5532, TTY-TDD 202/682-5429, at least seven (7) days prior to the meeting.

Further information with reference to this meeting can be obtained from the Office of Communications, National Endowment for the Arts, Washington, DC 20506, at 202/682-5570.

Dated: March 5, 2012.
Kathy Plowitz-Worden,
Panel Coordinator, Office of Guidelines and Panel Operations.

[FR Doc. 2012-5716 Filed 3-8-12; 8:45 am]

BILLING CODE 7537-01-P